DEPARTMENT OF STATE

[Public Notice 4044]

Shipping Coordinating Committee, Subcommittee on Safety of Life at Sea; Notice of Meeting

The Shipping Coordinating Committee, Subcommittee on Safety of Life at Sea will conduct an open meeting at 1 PM on Tuesday, September 10, 2002, in Room 3200 of the Department of Transportation Headquarters, 400 Seventh Street, SW, Washington, DC 20590-0001. The primary purpose of the meeting is to prepare for the Seventh Session of International Maritime Organization (IMO) Sub-Committee on Dangerous Goods, Solid Cargoes and Containers (DSC 7), to be held at the IMO Headquarters in London, England from September 23 to September 27, 2002.

The primary matters to be considered include:

a. Amendments to the International Maritime Dangerous Goods (IMDG) Code, its Annexes and Supplements including harmonization of the IMDG Code with the United Nations Recommendations on the Transport of Dangerous Goods, and implementation of Annex III of the Marine Pollution Convention (MARPOL 73/78), as amended.

b. Review of the Code of Safe Practice for Solid Bulk Cargoes (BC Code), including evaluation of properties of solid bulk cargoes.

c. Cargo securing manual.

d. Casualty and incident reports and analysis.

e. Development of an instrument for multimodal training requirements.

f. Stowage and segregation requirements for freight containers on containerships with partially weatherproof hatchway covers.

g. Development of a manual on loading and unloading of solid bulk cargoes for terminal representatives.

h. Guidance on serious structural deficiencies in containers.

i. Measures to enhance maritime security.

Members of the public may attend the meeting up to the seating capacity of the room. Interested persons may seek information by writing: Mr. E. P. Pfersich, U.S. Coast Guard (G-MSO-3), Room 1210, 2100 Second Street, SW., Washington, DC 20593-0001 or by calling (202) 267-1217.

Dated: August 8, 2002.
Stephen Miller,
Executive Secretary, Shipping Coordinating Committee, Department of State.

[FR Doc. 02-21169 Filed 8-19-02; 8:45 am]

BILLING CODE 4710-07-U